ENVIRONMENTAL PROTECTION AGENCY

[EPA-HQ-OPP-2022-0223; FRL-11017-01-OCSPP]

Chlorpyrifos; Notice of Receipt of Requests To Voluntarily Cancel Certain Pesticide Registrations and Amend Registrations To Terminate Certain Uses

AGENCY: Environmental Protection Agency (EPA).

ACTION: Notice.

SUMMARY: In accordance with the Federal Insecticide, Fungicide and Rodenticide Act (FIFRA), EPA is issuing a notice of receipt of requests by registrants to voluntarily cancel registrations of certain products containing the pesticide chlorpyrifos and to amend their chlorpyrifos registrations to terminate one or more uses. EPA intends to grant these requests at the close of the comment period for this announcement unless the Agency receives substantive comments within the comment period that would merit further review of the requests, or unless the registrants withdraw their requests. If these requests are granted, any sale, distribution, or use of the products listed in this notice after the registrations have been cancelled or the uses terminated would need to be consistent with the terms as described in the final order.

DATES: Comments must be received on or before December 6, 2023.

ADDRESSES: The docket for this action, identified by docket identification (ID) number EPA-HQ-OPP-2022-0223, is available at https://www.regulations.gov. Additional instructions on visiting the docket, along with more information about dockets generally, is available at https://www.epa.gov/dockets. For the latest status information on EPA/DC services and docket access, visit https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from registrants to cancel certain pesticide product registrations and terminate certain uses of product registrations. The affected registrations are listed in sequence by registration number in Table 1 and Table 2 of this unit. Table 3 of this unit includes the names and addresses of record for the registrants of the products listed in Table 1 and Table 2 of this Unit, in sequence by EPA company number. This company number corresponds to the first part of the EPA registration numbers of the products listed in Table 1 and Table 2 of this unit.

Unless the Agency determines that there are substantive comments that warrant further review of the requests or the registrants withdraw their requests, EPA intends to issue a final order in the Federal Register terminating the affected uses and cancelling the affected registrations.

Table 1—Chlorpyrifos Registrations With Pending Requests for Termination of Use
Registration No. | Product name | Company | Uses to be deleted
93182-3 | Chlorpyrifos Technical | Gharda Chemicals International, Inc | Alfalfa (except in AZ, CO, IA, ID, IL, KS, MI, MN, MO, MT, ND, NE, NM, NV, OK, OR, SD, TX, UT, WA, WI, WY), banana, blueberry, caneberry, cherimoya, citrus fruits (except in AL, FL, GA, NC, SC, TX), corn, cotton (except in AL, FL, GA, NC, SC, VA), cranberries, cucumber, date, feijoa, figs, grapes, kiwifruit, leek, legume vegetables (except soybean), mint, onions (dry bulb), pea, peanuts, pepper, pumpkin, sweet potatoes, sugarcane, sorghum, soybeans (except in AL, CO, FL, GA, IA, IL, IN, KS, KY, MN, MO, MT, NC, ND, NE, NM, OH, OK, PA, SC, SD, TN, TX, VA, WI, WV, WY), sunflowers, sugar beets (except in IA, ID, IL, MI, MN, ND, OR, WA, WI), strawberries (except in OR), tree fruit (apples (except in AL, DC, DE, GA, ID, IN, KY, MD, MI, NJ, NY, OH, OR, PA, TN, VA, VT, WA, WV), cherries (except tart cherries in MI), peaches (except in AL, DC, DE, FL, GA, MD, MI, NC, NJ, NY, OH, PA, SC, TX, VA, VT, WV) and nectarines), pears, plums/prunes, tree nuts (almonds, filberts, pecans and walnuts), vegetables (cauliflower, broccoli, Brussels sprouts, cabbage, collards, kale, kohlrabi, turnips, radishes, and rutabagas), and wheat (except spring wheat in CO, KS, MO, MT, ND, NE, SD, WY and winter wheat in CO, IA, KS, MN, MO, MT, ND, NE, OK, SD, TX, WY).
93182-7 | Pilot 4E Chlorpyrifos Agricultural Insecticide | Gharda Chemicals International, Inc | Alfalfa (except in AZ, CO, IA, ID, IL, KS, MI, MN, MO, MT, ND, NE, NM, NV, OK, OR, SD, TX, UT, WA, WI, WY), apple (except in AL, DC, DE, GA, ID, IN, KY, MD, MI, NJ, NY, OH, OR, PA, TN, VA, VT, WA, WV), asparagus, brassica (cole) leafy vegetables, broccoli, broccoli rabe, Brussels sprouts, cabbage, cauliflower, cavalo broccoli, Chinese broccoli, Chinese cabbage, collards, kale, kohlrabi, mizuna, mustard greens, mustard spinach, rape greens, radish, rutabaga, turnip, citrus fruits and citrus orchard floors (except in AL, FL, GA, NC, SC, TX), corn (field corn and sweet corn, including corn grown for seed), cotton (except in AL, FL, GA, NC, SC, VA), cranberries, figs, grape, legume vegetables (succulent or dried, adzuki bean, asparagus bean, bean, blackeyed pea, broad bean (dry and succulent), catjang, chickpea, Chinese longbean, cowpea, crowder pea, dwarf bean, edible pod pea, English pea, fava bean, field bean, field pea, garbanzo bean, garden pea, grain lupin, green pea, guar, hyacinth bean, jackbean, kidney bean, lablab bean, lentil, lima bean (dry and green), moth bean, mung bean, navy bean, pea, pigeon pea, pinto bean, rice bean, runner bean, snap bean, snow pea, southern pea, sugar snap pea, sweet lupin, tepary bean, urd bean, white lupin, white sweet lupin, yardlong bean), onions (dry bulb), peanut, pear, peppermint and spearmint, sorghum—grain sorghum (milo), soybean (except in AL, CO, FL, GA, IA, IL, IN, KS, KY, MN, MO, MT, NC, ND, NE, NM, OH, OK, PA, SC, SD, TN, TX, VA, WI, WV, WY), strawberry (except in OR), sugar beet (except in IA, ID, IL, MI, MN, ND, OR, WA, WI), sunflower, sweet potato, almond, walnut (dormant/delayed dormant sprays), tree fruits (except apple, peaches, and cherries) and almond, tree nuts (foliar sprays), tree nut orchard floors, wheat (except spring wheat in CO, KS, MO, MT, ND, NE, SD, WY and winter wheat in CO, IA, KS, MN, MO, MT, ND, NE, OK, SD, TX, WY), cherries (except tart cherries in MI), nectarine, plum, prune, peaches (except in AL, DC, DE, FL, GA, MD, MI, NC, NJ, NY, OH, PA, SC, TX, VA, VT, WV).
93182-8 | Pilot 15G Chlorpyrifos Agricultural Insecticide | Gharda Chemicals International, Inc | Citrus and citrus orchard floors (except in AL, FL, GA, NC, SC, TX), Cole crops (Brassica) leafy vegetables: (Bok choy, broccoli, Brussels sprouts, cabbage, Chinese cabbage, cauliflower, collards, kale, kohlrabi, broccoli rabe, Chinese broccoli), onions (dry bulb), radishes, rutabagas, sweet potatoes, corn, alfalfa (except in AZ, CO, IA, ID, IL, KS, MI, MN, MO, MT, ND, NE, NM, NV, OK, OR, SD, TX, UT, WA, WI, WY), sorghum—grain sorghum (milo), soybeans (except in AL, CO, FL, GA, IA, IL, IN, KS, KY, MN, MO, MT, NC, ND, NE, NM, OH, OK, PA, SC, SD, TN, TX, VA, WI, WV, WY), peanuts, sugar beets (except in IA, ID, IL, MI, MN, ND, OR, WA, WI), turnips, and sunflowers.

Table 2—Chlorpyrifos Product Registration With Pending Request for Cancellation
Registration No. | Company No. | Product name | Active ingredients
62719-72 | 62719 | Dursban 50W in Water Soluble Packets | Chlorpyrifos.

Table 3—Registrants Requesting Voluntary Cancellation and/or Termination of Uses
EPA company No. | Company name and address
62719 | Corteva Agriscience, LLC, 9330 Zionsville Rd., Indianapolis, IN 46268.
93182 | Gharda Chemicals International, Inc., 4032 Crockers Lake Blvd., Suite 818, Sarasota, FL 34238.

III. What is the Agency's authority for taking these actions?

FIFRA section 6(f)(1) (7 U.S.C. 136d(f)(1)) provides that a registrant of a pesticide product may at any time request that any of its pesticide registrations be cancelled or amended to terminate one or more registered uses. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

EPA is exercising its discretion not to waive the 180-day comment period. No waiver requests have been made by the registrants listed in Table 3, in which case, EPA would typically provide the 180-day comment period. In this instance, while there is a concern for food uses remaining registered in the absence of tolerances, the products identified in this document cannot be used on food—for the products identified in Table 1, tolerances have been revoked, which means that any use of the products in Table 1 on food would render the food adulterated; the product in Table 2 is not registered for use on food. Moreover, there is an ongoing proceeding to cancel the products identified in Table 1 under FIFRA section 6(b) (7 U.S.C. 136d(b)). Therefore, EPA is providing a 180-day comment period.

IV. Procedures for Withdrawal of Request

Registrants who choose to withdraw a request for cancellation or use termination/deletion should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

If the requests for voluntary cancellation and amendments to terminate uses are granted, the Agency intends to publish a final cancellation order in the Federal Register. In any order issued in response to these requests for cancellation of product registrations and for amendments to terminate uses, EPA proposes to include the following provisions for the treatment of any existing stocks of the products listed in Tables 1 and 2 of Unit II.

A. Products Listed in Table 1 of Unit II

If EPA grants the registrant's request to terminate uses for the products listed in Table 1 of Unit II, the existing stocks of those products will continue to bear labeling for use on food and non-food use sites. Because all chlorpyrifos tolerances expired on February 28, 2022, use of chlorpyrifos in or on food will result in adulterated food, which cannot be delivered into interstate commerce. Such use would be inconsistent with FIFRA; therefore, EPA will prohibit any use of existing stocks for use on food, including the food uses that the registrant seeks to retain. Use of existing stocks of chlorpyrifos products identified in Table 1 of Unit II will be permitted only for non-food uses identified on the existing labels, as long as such use is consistent with the label.

EPA intends to prohibit all sale and distribution of existing stocks of the chlorpyrifos products identified in Table 1 of Unit II because those products would continue to bear labeling allowing use on food, for which there are no tolerances, except for export consistent with FIFRA section 17 (7 U.S.C. 136o), or for proper disposal in accordance with state regulations. In addition, if EPA and Gharda develop an agreement for return of Gharda's products, EPA intends to include in the final cancellation order terms allowing for distribution consistent with that return program.

B. Product Listed in Table 2 of Unit II

The product listed in Table 2 of Unit II bears labeling only for non-food use. At this time, EPA has identified no significant potential risk concerns associated with the product identified in Table 2 of Unit II. Therefore, EPA intends to allow Corteva to sell and distribute existing stocks of that product for one year after publication of the cancellation order. Thereafter, Corteva will be prohibited from selling and distributing existing stocks of the product, except for export consistent with FIFRA section 17 (7 U.S.C. 136o), or for proper disposal in accordance with state regulations.

Persons other than Corteva will generally be allowed to sell, distribute, or use existing stocks until such stocks are exhausted, provided that such sale, distribution, or use is consistent with the terms of the previously approved labeling on, or that accompanied, the cancelled products.

Authority: 7 U.S.C. 136 et seq.

Dated: June 5, 2023.
Mary Elissa Reaves,
Director, Pesticide Re-Evaluation Division, Office of Pesticide Programs.

[FR Doc. 2023-12354 Filed 6-8-23; 8:45 am]

BILLING CODE 6560-50-P